DEPARTMENT OF THE INTERIOR

National Park Service

[NPS-WASO-NAGPRA-13406; PPWOCRADN0-PCU00RP14.R50000]

Notice of Inventory Completion: Thomas Burke Memorial Washington State Museum, University of Washington, Seattle, WA

AGENCY: National Park Service, Interior.

ACTION: Notice.

SUMMARY: The Thomas Burke Memorial Washington State Museum, University of Washington (Burke Museum), has completed an inventory of human remains and associated funerary objects, in consultation with the appropriate Indian tribes or Native Hawaiian organizations, and has determined that there is a cultural affiliation between the human remains and associated funerary objects and present-day Indian tribes or Native Hawaiian organizations. Lineal descendants or representatives of any Indian tribe or Native Hawaiian organization not identified in this notice that wish to request transfer of control of these human remains and associated funerary objects should submit a written request to the Burke Museum. If no additional requestors come forward, transfer of control of the human remains and associated funerary objects to the lineal descendants, Indian tribes, or Native Hawaiian organizations stated in this notice may proceed.

DATES: Lineal descendants or representatives of any Indian tribe or Native Hawaiian organization not identified in this notice that wish to request transfer of control of these human remains and associated funerary objects should submit a written request with information in support of the request to the Burke Museum at the address in this notice by August 29, 2013.

ADDRESSES: Peter Lape, Burke Museum, University of Washington, Box 35101, Seattle, WA 98195, telephone (206) 685-3849, email plape@uw.edu.

SUPPLEMENTARY INFORMATION: Notice is here given in accordance with the Native American Graves Protection and Repatriation Act (NAGPRA), 25 U.S.C. 3003, of the completion of an inventory of human remains and associated funerary objects under the control of the Burke Museum. The human remains and associated funerary objects were removed from Island County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

Consultation

A detailed assessment of the human remains and associated funerary objects was made by the Burke Museum professional staff in consultation with representatives of the Lummi Tribe of the Lummi Reservation; Samish Indian Nation (previously listed as the Samish Indian Tribe, Washington); Sauk-Suiattle Indian Tribe; Stillaguamish Tribe of Indians of Washington (previously listed as Stillaguamish Tribe of Washington); Swinomish Indians of the Swinomish Reservation of Washington; Tulalip Tribes of Washington (previously listed as the Tulalip Tribes of the Tulalip Reservation, Washington); and the Upper Skagit Indian Tribe (hereafter referred to as “The Consulted Tribes”).

History and Description of the Remains

Between 1953 and 1955, human remains representing, at minimum, one individual were removed from site 45-IS-77 in Island County, WA. The human remains were removed during a University of Washington Department of Anthropology Field Project led by Allan Bryan, and the human remains were accessioned by the Burke Museum in 1966 (Burke Accn. #1966-94). While six burials were excavated, the Burke Museum only holds the remains for “Burial 6”; the whereabouts of the other human remains is unknown. No known individuals were identified. The 32 associated funerary objects are 2 lots of unmodified wood; 1 wood grave stake; 2 metal objects; 1 pair of scissors; 1 black plastic comb; 2 shells; 1 modified bone fragment; 1 unmodified bone fragment; 1 stone abrader; 1 .22 caliber gun; 3 bags of buttons (glass, porcelain, bone, copper); 8 U.S. coins; 1 porcelain doll head; 1 bag containing metal buckle fragments; and 6 composite artifact bags containing wood, nails, charcoal, pebbles, metal, leather, watch faces, a watch chain, and organic and inorganic materials.

Burial methods at the site were varied and included the use of long and short wooden box coffins. The remains were found extended, or in flexed and semi-flexed positions, on the back and side. There was also evidence of cremation at the site. The burials appear to be from a contact time period, as evidenced by the transition into European burial customs and the presence of post-contact artifacts. One of the burials was dated to 1876 or later based on the presence of an 1876 coin.

In 1962, human remains representing, at minimum, one individual were removed from south of site 45-IS-14 in Island County, WA. The remains were removed by Richard Arild Johnson and donated to the Burke Museum in 1962 (Burke Accn. #1963-24). No known individuals were identified. The one associated funerary object is 1 lot/bag of pebbles, dirt and shell fragments.

In 1953, human remains representing, at minimum, two individuals were removed from site 45-IS-13 on Snatelum Point in Island County, WA. The human remains were removed during a University of Washington Department of Anthropology Field Project led by Allan Bryan, and the human remains were accessioned by the Burke Museum in 1966 (Burke Accn. #1966-94). The human remains were loaned to the University of Washington Anthropology Department at an unknown date. The human remains were discovered in the Anthropology Department, stored with the physical anthropology remains in June 2010, and were then returned to the Burke Museum. No known individuals were identified. No associated funerary objects are present.

In 1926, human remains representing, at minimum, one individual were removed from San de Fuca in Island County, WA. The human remains were removed by John Armstrong from a shell mound near the site of old potlatch house and donated to the Burke Museum in 1926 (Burke Accn. #2122). No known individuals were identified. No associated funerary objects are present.

In 1963, human remains representing, at minimum, one individual were removed from Careless Bay in Island County, WA. The human remains were removed by Bob Atwell and Emil Gabeline and subsequently donated to the Burke Museum (Burke Accn. #1963-50). No known individuals were identified. No associated funerary objects are present.

In 1941, human remains representing, at minimum, one individual were removed from Utsalady on Camano Island in Island County, WA. The human remains were removed by Dr. Alfred E. Hudson and University of Washington archeology students. The human remains were accessioned by the Burke Museum in 1941 (Burke Accn. #3361). No known individuals were identified. No associated funerary objects are present.

All of the human remains described above were removed from sites in the Penn Cove area on Whidbey Island or on the northwestern shore of Camano Island. Several sites are documented archeological or shell midden sites. The human remains in this notice have been determined to be Native American based on a combination of archaeological, geographic, or physical anthropology evidence.

Linguistically, Native American speakers of the Northern dialect of the Lushootseed language claim cultural heritage to the Northern Puget Sound area. Culturally, Native Americans from the Northern Puget Sound area are members of Southern Coast Salish tribes. Historical and anthropological sources (Deur 2009, Mooney 1896, Roberts 1975, Ruby and Brown 1986, Spier 1936, Swanton 1952) indicate that the Kikiallus, Swinomish, Lower Skagit, and Stillaguamish peoples occupied and had village sites in the Penn Cove area and on the northwestern shore of Camano Island. Although the Indian Claims Commission determined that the sites near Penn Cove on Whidbey Island fell within the aboriginal territory of the Lower Skagit, shortly after 1855, anthropologists and historians described this area as a mixed community. Penn Cove was one of the communities Stillaguamish and other tribes were told to move to after being forced to leave their villages on the mainland (Deur 2009, Grady 2012).

Today, descendants of Kikiallus are members of the Stillaguamish Tribe of Indians of Washington (previously listed as Stillaguamish Tribe of Washington); Swinomish Indians of the Swinomish Reservation of Washington; and the Tulalip Tribes of Washington (previously listed as the Tulalip Tribes of the Tulalip Reservation, Washington). Today, the Lower Skagit are primarily members of the Swinomish Indians of the Swinomish Reservation of Washington and the Tulalip Tribes of Washington (previously listed as the Tulalip Tribes of the Tulalip Reservation, Washington).

Determinations Made by the Burke Museum

Officials of the Burke Museum have determined that:

• Based on archaeological evidence, the human remains have been determined to be Native American.

• Pursuant to 25 U.S.C. 3001(9), the human remains described in this notice represent the physical remains of seven individuals of Native American ancestry.

• Pursuant to 25 U.S.C. 3001(3)(A), the 33 objects described in this notice are reasonably believed to have been placed with or near individual human remains at the time of death or later as part of the death rite or ceremony.

• Pursuant to 25 U.S.C. 3001(2), there is a relationship of shared group identity that can be reasonably traced between the Native American human remains and the Stillaguamish Tribe of Indians of Washington (previously listed as Stillaguamish Tribe of Washington); Swinomish Indians of the Swinomish Reservation of Washington; and the Tulalip Tribes of Washington (previously listed as the Tulalip Tribes of the Tulalip Reservation, Washington).

Additional Requestors and Disposition

Lineal descendants or representatives of any Indian tribe or Native Hawaiian organization not identified in this notice that wish to request transfer of control of these human remains and associated funerary objects should submit a written request with information in support of the request to Peter Lape, Burke Museum, University of Washington, Box 35101, Seattle, WA 98195, telephone (206) 685-3849, email plape@uw.edu, by August 29, 2013. After that date, if no additional requestors have come forward, transfer of control of the human remains and associated funerary objects to the Stillaguamish Tribe of Indians of Washington (previously listed as Stillaguamish Tribe of Washington); Swinomish Indians of the Swinomish Reservation of Washington; and the Tulalip Tribes of Washington (previously listed as the Tulalip Tribes of the Tulalip Reservation, Washington) may proceed.

The Burke Museum is responsible for notifying The Consulted Tribes that this notice has been published.

Dated: July 8, 2013.
Melanie O'Brien,
Acting Manager, National NAGPRA Program.

[FR Doc. 2013-18323 Filed 7-29-13; 8:45 am]

BILLING CODE 4312-50-P